DEPARTMENT OF THE INTERIOR

National Park Service

Draft Environmental Impact Statement for the Tamiami Trail Modifications: Next Steps Project, Everglades National Park

Tamiami Trail Modifications: Next Steps Project, Draft Environmental Impact Statement, Everglades National Park, Florida. The Notice of Intent (NOI) for this project referred to it as a “Feasibility Study and Report” based on language in the authorizing legislation. This new appellation was a result of public scoping and internal National Park Service discussions.

AGENCY: National Park Service, Department of the Interior.

ACTION: Notice of availability of the Draft Environmental Impact Statement for the Tamiami Trail Modifications: Next Steps Project, Everglades National Park.

SUMMARY: Pursuant to 42 U.S.C. 4332(2)(C) of the National Environmental Policy Act of 1969 and National Park Service (NPS) policy in Director's Order Number 2 (Park Planning) and Director's Order Number 12 (Conservation Planning, Environmental Impact Analysis, and Decision-making), the NPS announces the availability of a Draft Environmental Impact Statement (DEIS) for the Tamiami Trail (U.S. Highway 41) Modifications: Next Steps Project for Everglades National Park, Florida.

The 2009 Omnibus Appropriations Act, H.R. 1105: Omnibus Appropriations Act of 2009 (Pub. L. 111-008, dated March 11, 2009) directed the U.S. Army Corps of Engineers (USACE) to construct modifications to U.S. Highway 41 (Tamiami Trail) that were approved in the 2008 Limited Reevaluation Report and Environmental Assessment. The 2009 Omnibus Appropriations Act also directed the Department of the Interior's National Park Service to “immediately evaluate the feasibility of additional bridge length, beyond that to be constructed pursuant to the Modified Water Deliveries to Everglades National Park Project (16 U.S.C. 410r-8), including a continuous bridge, or additional bridges or some combination thereof, for the Tamiami Trail to restore more natural water flow to Everglades National Park (ENP) and Florida Bay and for the purpose of restoring habitat within the Park and the ecological connectivity between the Park and the Water Conservation Areas” (2009 Omnibus Appropriations Act, Pub. L. 111-008).

DATES: There will be a 60-day comment period beginning with the Environmental Protection Agency's publication of its Notice of Availability in the Federal Register. Public meeting(s) will be held during the review period. The date, time, and location of the public meeting(s) will be announced through the NPS Planning, Environment, and Public Comment (PEPC) Web site http://parkplanning.nps.gov/ever, a news release, and/or a mailed announcement to be released in May 2010.

ADDRESSES: The document will be available for public review and comment online at http://parkplanning.nps.gov/ever. CDs and hard copies are available at Park headquarters. You may also request a hard copy or CD by contacting Everglades National Park, 40001 State Road 9336, Homestead, FL 33034-6733; telephone 305-242-7700.

SUPPLEMENTARY INFORMATION: Public scoping was initiated in the summer of 2009. A newsletter was distributed on May 31, 2009, and a public meeting was held on June 2, 2009, to keep the public informed and involved throughout the planning process. As the lead agency, the NPS conducted several inter-agency/Tribal meetings and one workshop to develop project objectives, identify alternatives, evaluate the benefits of alternatives, and identify a preferred alternative. The DEIS provides historical information, existing conditions, alternatives for infrastructure modifications, and related impacts of the alternatives. The DEIS describes six alternatives for consideration, including a no-action alternative that provides for the continuation of the current Tamiami Trail infrastructure configuration. The five action alternatives present a range of infrastructure modification opportunities. The environmental impacts of each alternative, including the no-action alternative, are systematically analyzed in the document.

The six alternatives (with corresponding identifiers) as they appear in the document are as follows:

• No Action Alternative: The No-Action Alternative consists of a 1-mile eastern bridge and elevation of the remaining roadway to allow for 8.5 feet stages in the L-29 Canal. This alternative continues the status quo.

• Alternative 1: 2.2 miles of bridges and remaining roadway elevated: Alternative 1 would involve creating conveyance openings through Tamiami Trail by removing 2.2 miles of the existing highway and embankment. Four bridges (or ConSpan) would be constructed in the openings to replace the removed section of road and maintain vehicle traffic across the openings. This alternative would create 2.2 miles of ecological connectivity and better distribute flows in the western area of the 11 mile project corridor.

• Alternative 2a: 3.3 miles of bridges and remaining roadway elevated: Alternative 2a would involve creating conveyance openings through Tamiami Trail by removing 3.3 miles of the existing highway and embankment. Six bridges would be constructed in the openings to replace the removed section of road and maintain vehicle traffic across the openings. This alternative would create 3.3 miles of ecological connectivity and moderately reduce the adverse effects of high velocity discharges associated with the existing culverts.

• Alternative 4: 1.0 miles of bridging and remaining roadway elevated: Alternative 4 would involve creating conveyance openings through Tamiami Trail by removing 1.0 mile of the existing highway and embankment where the bridging is proposed. This alternative would increase ecological connectivity by 1.0 mile.

• Alternative 5: 1.5 miles of bridging and remaining roadway elevated: Alternative 5 would involve creating conveyance openings through Tamiami Trail by removing 1.5 miles of the existing highway and embankment. Three bridges would be constructed in the opening to replace the removed section of road and maintain vehicle traffic. This alternative would increase ecological connectivity by 1.5 miles.

• Alternative 6E: 5.5 miles of bridging and remaining roadway elevated. Alternative 6E is the maximum bridging option and involves creating conveyance openings through Tamiami Trail by removing 5.5 miles of the existing highway and embankment. Four bridges would be constructed in the opening to replace the removed section of road and maintain vehicle traffic. This alternative would increase ecological connectivity by 5.5 miles, reduce flow velocities below the 0.10 fps threshold that causes harm to marshes, and substantially restore the flow patterns associated with a healthy ridge and slough landscape in Northeast Shark River Slough.

• Common to all action alternatives: The remaining highway embankments along stretches of the road that are not bridged would be reconstructed to raise the crown elevation to 12.3 feet, the minimum required based on the design high water of 9.7 feet and the roadway cross section geometry.

Preferred Alternative: Alternative 6E was determined to be the preferred alternative by the NPS and the U.S. Department of the Interior.

If you wish to comment on the DEIS for the Tamiami Trail Modifications: Next Steps Project, you may submit your comments by any one of several methods. The preferred method for submitting comments is via the Internet at http://parkplanning.nps.gov/ever. If you do not receive a confirmation from the system that we have received your internet message, please contact us directly at the address above. You may also mail comments to the Park at the address shown above. Finally, you may present your comments in person at the public meeting(s) to be held during the public review period or at the address listed above.

Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials or organizations or businesses, available for public inspection in their entirety.

Authority: The authority for publishing this notice is 40 CFR 1506.6.

FOR FURTHER INFORMATION CONTACT: Contact Everglades National Park at the address and telephone number shown above.

The responsible official for this Draft EIS is the Regional Director, Southeast Region, NPS, 100 Alabama Street, SW., 1924 Building, Atlanta, Georgia 30303.

Dated: March 31, 2010.
David Vela,
Regional Director, Southeast Region, National Park Service.

[FR Doc. 2010-12476 Filed 5-24-10; 8:45 am]

BILLING CODE 4310-70-P